OFFICE OF THE UNITED STATES TRADE REPRESENTATIVE

Determination Regarding Waiver of Discriminatory Purchasing Requirements With Respect to Goods and Services of New Member States of the European Communities

AGENCY: Office of the United States Trade Representative.

ACTION: Determination regarding waiver of discriminatory purchasing requirements under the Trade Agreements Act of 1979.

FOR FURTHER INFORMATION CONTACT: Jean Heilman Grier, Senior Procurement Negotiator, Office of the United States Trade Representative, (202) 395-9476, or Jason E. Kearns, Assistant General Counsel, Office of the United States Trade Representative, (202) 395-3581.

SUPPLEMENTARY INFORMATION: The European Communities (“EC”) is a party to the World Trade Organization (“WTO”) Agreement on Government Procurement (“GPA”) and has assumed rights and obligations under the GPA on behalf of its Member States. On May 1, 2004, the Czech Republic, the Republic of Estonia, the Republic of Cyprus, the Republic of Latvia, the Republic of Lithuania, the Republic of Hungary, the Republic of Malta, the Republic of Poland, the Republic of Slovenia, and the Slovak Republic (collectively, the “new Member States”) acceded to the EC. In light of that accession, the EC has committed to assume rights and obligations on behalf of these new Member States under the GPA. On April 23, 2004, the WTO Committee on Government Procurement approved the application of the GPA to the new Member States. The United States, which is also a party to the GPA, has agreed to waive discriminatory purchasing requirements for eligible products and suppliers of the new Member States. An advance notice on this subject was published in the Federal Register on April 5, 2004.

Section 1-201 of Executive Order 12260 of December 31, 1980 delegated the functions of the President under sections 301 and 302 of the Trade Agreements Act of 1979 (“the Trade Agreements Act”) (19 U.S.C. 2511, 2512) to the United States Trade Representative.

Determination

In conformity with sections 301 and 302 of the Trade Agreements Act, and in order to carry out U.S. obligations under the GPA, I hereby determine that:

1. The European Communities, including its new Member States, is an instrumentality that (A) is a party to the GPA and (B) will provide appropriate reciprocal competitive government procurement opportunities to United States products and services and suppliers of such products and services. In accordance with section 301(b)(1) of the Trade Agreements Act, the European Communities is so designated for purposes of section 301(a) of the Trade Agreements Act.

2. Accordingly, with respect to eligible products (namely, those goods and services covered under the GPA for procurement by the United States) of the Czech Republic, the Republic of Estonia, the Republic of Cyprus, the Republic of Latvia, the Republic of Lithuania, the Republic of Hungary, the Republic of Malta, the Republic of Poland, the Republic of Slovenia, and the Slovak Republic and suppliers of such products, the application of any law, regulation, procedure, or practice regarding government procurement that would, if applied to such products and suppliers, result in treatment less favorable than that accorded—(A) To United States products and suppliers of such products, or (B) To eligible products of another foreign country or instrumentality which is a party to the GPA and suppliers of such products, shall be waived. This waiver shall be applied by all entities listed in United States Annexes 1 and 3 of GPA Appendix 1. I have informed the relevant U.S. procurement authorities of this decision and requested that they make the necessary changes to U.S. procurement regulations as expeditiously as possible in order to implement this decision. This decision shall become effective on the date of amendment of the applicable regulations.

3. The Trade Representative may modify or withdraw the designation in paragraph 1 and the waiver in paragraph 2.

4. This notice shall not affect the treatment to be accorded to eligible products of any country that was a Member State of the European Communities before the accession of the new Member States.

Dated: May 3, 2004.
Robert B. Zoellick,
United States Trade Representative.

[FR Doc. 04-10461 Filed 5-6-04; 8:45 am]

BILLING CODE 3190-W4-P